DEPARTMENT OF AGRICULTURE

Forest Service

Sierra National Forest, California, Kings River Project

AGENCY: Forest Service, USDA.

ACTION: Notice of intent to prepare an environmental impact statement.

SUMMARY: The Forest Service will prepare an environmental impact statement on a proposal to conduct a sustainable forest ecosystem study that examines the response of an array of ecosystem elements to uneven-aged, small group selection and prescribed fire. The intention is to implement these activities in suitable locations over time and to monitor and perform research studies on the response of physical, chemical, and biological features of the Big Creek and Dinkey Creek watersheds. The study is a collaborative effort between the Sierra National Forest and the Pacific Southwest Research Station.

DATES: A public field trip will be conducted on September 14, 2004 to provide further information about the Kings River Project. Comments concerning the scope of the analysis must be received by October 9, 2004. Mail comments to Kings River Project Coordinator, c/o High Sierra Ranger District, PO Box 559 (29688 Auberry Road), Prather, CA 93651. The draft environmental impact statement is expected June 2005 and the final environmental impact statement is expected October 2005.

FOR FURTHER INFORMATION CONTACT: Ross Peckinpah, Acting Kings River Project Coordinator, (559) 855-5355 x3350.

SUPPLEMENTARY INFORMATION:

Purpose and Need for Action

The Kings River Project is a key part of the adaptive management program for the Sierra Nevada that is designed to address questions that relate to the uncertainties associated with management activities and their effects on wildlife habitat, watershed condition and modified wildlife behavior.

Proposed Action

The Sierra National Forest proposes to implement the Kings River Project that initially involves analyzing in detail eight management units for treatment between 2006 and 2008 (the ninth management unit, South of Shaver, already had NEPA completed and is scheduled for implementation in 2004). The remaining 71 management units (of which 10 are planned as no treatment-controls and the remaining 61 for implementation between 2011 and 2033) will be examined based on existing condition and the potential for cumulative effects on the Kings River Project. Thus the EIS will be programmatic for the entire project with a focused piece for the initial eight management units. The EIS will address the five planned research studies (Kings River experimental watershed, California spotted owl, fisher, air quality, and uneven-aged management) while incorporating the National Fire Plan objectives (April 2000), USDA Forest Service Strategic Plan and the Sierra Nevada Framework for Conservation and Collaboration Record of Decision (January 2001), as amended on January 21, 2004.

Lead and Cooperating Agencies

The Kings River Project is a collaborative effort between the Sierra National Forest and the Pacific Southwest Research Station (PSW). The Sierra National Forest is the lead agency.

Responsible Official

Ed Cole, Forest Supervisor, Sierra National Forest, 1600 Tollhouse Ave., Clovis, CA 93612.

Nature of Decision To Be Made

The decision to be made is whether to implement the planned treatment and associated studies, an alternative or select no action.

Scoping Process

The Sierra National Forest will conduct a 30-day public scoping period that coincides with this notice.

Comment Requested

This notice of intent initiates the scoping process which guides the development of the environmental impact statement. The scoping period will be conducted for 30 days from the date of this notice. The Sierra National Forest is seeking comments regarding this proposal to identify issues that may be presently unknown to the agency.

Early Notice of Importance of Public Participation in Subsequent Environmental Review

A draft environmental impact statement will be prepared for comment. The comment period of the draft environmental impact statement will be 60 days from the date the Environmental Protection agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also environmental objections that could be raised at the draft environmental impact statement stage but that are not raised until after completion of the final environmental impact statement may be waived or dismissed by the courts. City of Angoon v. Hodel, 803 F.2D 1016, 1022 (9th Cir. 1986) and Wisconsin Heritages, Inc. v. Harris, 490 F. Supp. 1334, 1338 (E.D. Wis. 1980). Because of these court rulings, it is very important that those interested in this proposed action participate by the close of the 60-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: September 30, 2004.
Mark T. Smith,
Acting Forest Supervisor.

[FR Doc. 04-21291 Filed 9-21-04; 8:45 am]

BILLING CODE 3410-11-M